FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission,Washington, DC 20573.

Non-Vessel Operating Common Carrier Ocean Transportation Intermediary Applicants

Transbulk Shipping Lines Inc., 5850 Coral Ridge Drive, Ste. 308, Coral Springs, FL 33076, Officer: Carlos Durand, Director, (Qualifying Individual).

Evans, Wood & Caulfield, Inc. dba EWC Global Logistics, 100 North Centro Ave., #201, Rockville Centre, NY 11570, Officers: Patrick J. Caulfield, President, (Qualifying Individual), Valerie Caulfield, Exec. Vice President.

USA Logistic Services Inc., 950 Calcon Hook Rd., #1, Sharon Hill, PA 19079, Officer: Michael J. Boyce, Sr., President, (Qualifying Individual).

Unico Logistics USA, Inc., 10711 Walker Street, Cypress, CA 90630, Officers: Kevin Jung, Secretary, (Qualifying Individual), Dookee Kim, President.

S & B Forwarding Service Corp., 7490 NW 52 Street, Miami, FL 33166, Officers: Jorge A. Simosa, President, (Qualifying Individual), Solomon J. Benson, Vice President.

Braid Logistics (North America) Inc., 5642 Shirley Lane, Houston, TX 77032, Officer: Lester Davies, Gen. Manager, (Qualifying Individual).

Non-Vessel Operating Common Carrier and Ocean Freight Forwarder Transportation Intermediary Applicants

SPI International Transportation (U.S.A.) Corp., dba Silver Pacific Global Logistics, SPI,International Transportation, 41661 Enterprise Circle North, Ste. 227, Temecula, CA 92590, Officer: Steven P. Rubin, Dir. U.S. Operations, (Qualifying Individual).

Sea Rank International, Inc., 15020 Bothell Way N.E., #100, Seattle, WA 98155, Officer: Samuel H. Chen, President, (Qualifying Individual).

MVP Global Logistics, LLC, 580 Chelsea Street, East Boston, MA 02128, Officer: Patricia Strong, Member, (Qualifying Individual).

Sifax Shipping Company, LLC, 14422 Sweeney Road, Houston, TX 77060, Officers: Karriem Wakkiluddin, Member/Manager, (Qualifying Individual), Clement Kembi, Member/Manager.

Centrix Logistics Inc., 3797 New Getwell Road, Memphis, TN 38118, Officers: Richard W. McDuffie, Sen. Vice President, (Qualifying Individual), H. J. Weathersby, President.

Consolidators International, Inc., dba Corrigans Express Freight Corporation, 8900 Bellanca Ave., Los Angeles, CA 90045, Officer: Julian Keeling, Chairman, (Qualifying Individual).

Mansard Shipping Ltd. dba Meyer Shipping, 1733 49th Street, Brooklyn, NY 11230, Officers: Morris Teichman, Vice President, Israel Meyer, Vice President, (Qualifying Individuals), David M. Weinberg, President.

T.V.L. Global Logistics Corp., 1990 Rosemead Blvd., Ste. 202, So. El Monte, CA 91733, Officer: Roberta Lee, Asst. Secretary, (Qualifying Individual).

W. K. Cargo Inc., 4079 NW 79th Ave., Miami, FL 33166, Officer: Andre R. Martins, President, (Qualifying Individual).

Mercury Logistics LLC, 10544 NW 26 Street, Doral, FL 3172, Officers: Marcelo R. Pose, Manager, (Qualifying Individual), Matilde E. Gomez, President.

Lionheart Project Logistics, Inc., 32938 Tamina Road, Ste. 102, Magnolia, TX 77354, Officers: Lothar H. Kammerer, President, (Qualifying Individual), Rose-Marie LeBel, Secretary.

AFC International, LLC, 975 Cobb Place Blvd., #101, Kennesaw, GA 30144, Officer: Anthony Scaturro, President, (Qualifying Individual).

Ocean Freight Forwarder—Ocean Transportation Intermediary Applicants

Pro-Service Forwarding Co., Inc., 901 West Hillcrest Blvd., Inglewood, CA 90301, Officer: Martin Rosenthal, Vice President, (Qualifying Individual).

Greenline Trade, LLC dba Greenline Logistics, 14205 S.E., 36th Street, Bellevue, WA 08006, Officers: Pille Mandla, Managing Director, (Qualifying Individual), Tamara V. Ullery, Member.

UTOC America, Inc., 2396 E. Pacifica Pl., Suite 200, Rancho Dominguez, CA 90220, Officer: Misa Nakayama, Vice Pres. Int'l. Logistics, (Qualifying Individual).

Dated: March 20, 2009.
Tanga S. FitzGibbon,
Assistant Secretary.

[FR Doc. E9-6592 Filed 3-24-09; 8:45 am]

BILLING CODE 6730-01-P